DEPARTMENT OF ENERGY

Energy Information Administration

Continuation of Forms EIA-182, “Domestic Crude Oil First Purchase Report,” and EIA-856, “Monthly Foreign Crude Oil Acquisition Report”

AGENCY: Energy Information Administration, Department of Energy.

ACTION: Notice of Continuation of Forms EIA-182, “Domestic Crude Oil First Purchase Report,” and EIA-856, “Monthly Foreign Crude Oil Acquisition Report.”

SUMMARY: The Energy Information Administration (EIA) will continue the monthly collection of data on the Forms EIA-182, “Domestic Crude Oil First Purchase Report,” and EIA-856, “Monthly Foreign Crude Oil Acquisition Report,” through the reporting of October 2006 data that is due to EIA by November 30, 2006.

DATES: Data collection on Forms EIA-182 and EIA-856 will continue though November 30, 2006.

ADDRESSES: Inquiries about the continuation of Forms EIA-182 and EIA-856 should be directed to Susan Harris at the Energy Information Administration, EI-42, Forrestal Building, Mail Stop: 2E-050, U.S. Department of Energy, Washington, DC 20585, telephone: (202) 586-8384, E-mail address: susan.harris@eia.doe.gov or fax number: (202) 586-1076.

FOR FURTHER INFORMATION CONTACT: Requests for additional information should be directed to Susan Harris at the address listed above.

SUPPLEMENTARY INFORMATION:

I. Background

II. Current Actions

I. Background

In order to fulfill its responsibilities under the Federal Energy Administration Act of 1974 (Pub. L. 93-275) and the Department of Energy Organization Act (Pub. L. 95-91), the Energy Information Administration (EIA) is obliged to carry out a central, comprehensive, and unified energy data and information program. As part of this program, EIA collects, evaluates, assembles, analyzes, and disseminates data and information related to energy resource reserves, production, demand, and technology, and related economic and statistical information relevant to the adequacy of energy resources to meet demands in the near and longer term future for the Nation's economic and social needs.

In the March 23, 2006, Federal Register (71 FR 14690), EIA announced its plan to discontinue the collection of Forms EIA-182 and EIA-856 after the data for July 2006 were collected. Given that no final decision has yet been made by the Congress regarding EIA's Fiscal Year 2007 budget, EIA has decided to continue collecting both forms monthly through the reporting of October 2006 data that is due to EIA by November 30, 2006, when the current Office of Management and Budget approval of all EIA petroleum marketing surveys is scheduled to expire.

II. Current Actions

EIA will continue collecting the Forms EIA-182, “Domestic Crude Oil First Purchase Report,” and EIA-856, “Monthly Foreign Crude Oil Acquisition Report,” though November 30, 2006.

Statutory Authority: Section 3507(h)(1) of the Paperwork Reduction Act of 1995 (Pub. L. 104-13, 44 U.S.C. Chapter 35).

Issued in Washington, DC, August 1, 2006.
Jay H. Casselberry,
Agency Clearance Officer, Energy Information Administration.

[FR Doc. E6-12746 Filed 8-4-06; 8:45 am]

BILLING CODE 6450-01-P